LEGAL SERVICES CORPORATION

Sunshine Act Meeting of the Board of Directors Search Committee for LSC President and Inspector General

Time and Date: The Board of Directors' Search Committee for LSC President and Inspector General will meet on November 10, 2003. The meeting will begin at 8:00 a.m. and continue until conclusion of the Committee's agenda.

Location: Heidrick & Struggles, 303 Peachtree Street, NE, Suite 4300, Atlanta, GA 30308.

Status of Meeting: Open, except that a portion of the meeting may be closed pursuant to a vote of the Board of Directors authorizing the Committee to hold an executive session. The closing is authorized by the relevant provisions of the Government in the Sunshine Act [5 U.S.C. 552b(c)(2), (4) & (6)] and the corresponding provisions of the Legal Services Corporation's implementing regulation [45 CFR 1622.5(a), (c) & (e)]. A copy of the General Counsel's Certification that the closing is authorized by law will be available upon request.

Matters to be considered:

Open Session

1. Approval of agenda.

2. Consider and act on other business.

Closed Session

3. Interviews of select candidates for the position of LSC President.

4. Review and discussion of interviewed candidates.

5. Selection of candidates to recommend to the full Board for further consideration.

Open Session

6. Consider and act on adjournment of meeting.

FOR FURTHER INFORMATION CONTACT: Victor M. Fortuno, Vice President for Legal Affairs, General Counsel and Corporate Secretary, at (202) 295-1500.

Special Needs: Upon request, meeting notices will be made available in alternate formats to accommodate visual and hearing impairments. Individuals who have a disability and need an accommodation to attend the meeting may notify Elizabeth Cushing at (202) 295-1500.

Dated: October 31, 2003.
Victor M. Fortuno,
Vice President for Legal Affairs, General Counsel and Corporate Secretary.

[FR Doc. 03-27789 Filed 10-31-03; 9:32 am]

BILLING CODE 7050-01-P